SMALL BUSINESS ADMINISTRATION

Data Collection Available for Public Comments

ACTION: 60 Day notice and request for comments.

SUMMARY: The Small Business Administration (SBA) intends to request approval, from the Office of Management and Budget (OMB) for the collection of information described below. The Paperwork Reduction Act (PRA) agencies to publish a notice in the Federal Register concerning each proposed collection of information before submission to OMB, and to allow 60 days for public comment in response to the notice. This notice complies with that requirement.

DATES: Submit comments on or before May 6, 2019.

ADDRESSES: Send all comments to Arthur Collins, Director, HUBZone, Small Business Administration, 409 3rd Street NW, Washington, DC 20416.

FOR FURTHER INFORMATION CONTACT: Arthur Collins, Director, HUBZone 202-619-6285, arthur.collins@sba.gov, or Curtis B. Rich, Agency Clearance Officer, 202-205-7030, curtis.rich@sba.gov:

SUPPLEMENTARY INFORMATION: The collected information is submitted by small business concerns seeking certification as a qualified HUBZone small business. SBA uses the information to verify a concern's eligibility for the HUBZone programs, to comply a database of qualified small business concerns, as well as for the re-certification and examination of certified HUBZone small business concerns. Finally, SBA uses the information to prepare reports for the Executive and legislative branches.

Title: “HUBZone Program Electronic Application, Re-certification and Program Examination”.

Description of Respondents: Small business concerns seeking certification as a qualified HUBZone.

Form Number: N/A.

Annual Responses: 2,984.

Annual Burden: 6,552.

Curtis Rich,
Management Analyst.

[FR Doc. 2019-03905 Filed 3-5-19; 8:45 am]

BILLING CODE P